DEPARTMENT OF AGRICULTURE

Forest Service

Payette National Forest, Idaho, Golden Hand #3 and #4 Lode Mining Claims, Plan of Operations

AGENCY: Forest Service, USDA.

ACTION: Notice of withdrawal.

SUMMARY: The USDA Forest Service is withdrawing the Environmental Impact Statement (EIS) for The Golden Hand No. 3 and No. 4 Lode Mining Claims Proposed Plan of Operations. The project included mining operations on the lode claims along with associated activities such as road maintenance and construction. The project will not be implemented. Any further action on claims No. 3 and No. 4 would be conducted under a new plan of operation and subsequent environmental documentation.

DATES: The Notice of Intent originally appeared on April 19, 2002 in the Federal Register page no 19389. The Notice of Availability of the Final EIS appeared on May 9, 2003 in the Federal Register page no 25023. This withdrawal of the Notice of Intent is effective on the date of this publication in the Federal Register.

ADDRESSES: Send written comments to Jeff Hunteman, Krassel Ranger District, Payette National Forest, 500 N. Mission, McCall, Idaho 83638.

FOR FURTHER INFORMATION CONTACT: Jeff Hunteman at the above address, or e-mail: jhunteman@fs.fed.us.

SUPPLEMENTARY INFORMATION: The mining claims are located in the Frank Church-River of No Return Wilderness, approximately 50 miles northeast of McCall, Idaho in section 26, T22N, R9E, Boise Meridian. The claims encompass approximately 20 acres each adjacent to Coin Creek, a tributary of Beaver Creek, which flows into Big Creek, a tributary of the Salmon River. The Record of Decision will also be withdrawn.

Responsible Official

The responsible official is the Forest Supervisor of the Payette National Forest.

Dated: March 7, 2011.
Suzanne C. Rainville,
Forest Supervisor, Payette National Forest.

[FR Doc. 2011-5760 Filed 3-11-11; 8:45 am]

BILLING CODE 3410-11-P